DEPARTMENT OF THE INTERIOR

Office of the Secretary

[DOI-2019-0007; BLM-19X.LLW0240000. L10500000.PC0000.LXSIPALE0000]

Privacy Act of 1974; System of Records

AGENCY: Office of the Secretary, Interior.

ACTION: Notice of a new system of records.

SUMMARY: Pursuant to the provisions of the Privacy Act of 1974, as amended, the Department of the Interior is issuing a public notice of its intent to create the Department of the Interior Privacy Act system of records titled, “INTERIOR/DOI-20, Paleontological Resources Preservation System.” This system of records helps the Department of the Interior implement the Paleontological Resources Preservation Act and manage, preserve and protect paleontological resources on Federal lands under the jurisdiction of the Department of the Interior. This newly established system will be included in the Department of the Interior's inventory of record systems.

DATES: This new system will be effective upon publication. New routine uses will be effective November 1, 2019. Submit comments on or before November 1, 2019.

ADDRESSES: You may send comments, identified by docket number [DOI-2019-0007], by any of the following methods:

• Federal eRulemaking Portal: http://www.regulations.gov. Follow the instructions for sending comments.

• Email: DOI_Privacy@ios.doi.gov. Include docket number [DOI-2019-0007] in the subject line of the message.

• Mail: Teri Barnett, Departmental Privacy Officer, U.S. Department of the Interior, 1849 C Street NW, Room 7112, Washington, DC 20240.

• Hand Delivery/Courier: Teri Barnett, Departmental Privacy Officer, U.S. Department of the Interior, 1849 C Street NW, Room 7112, Washington, DC 20240.

Instructions: All submissions received must include the agency name and docket number. All comments received will be posted without change to http://www.regulations.gov, including any personal information provided.

Docket: For access to the docket to read background documents or comments received, go to http://www.regulations.gov.

FOR FURTHER INFORMATION CONTACT: Teri Barnett, Departmental Privacy Officer, U.S. Department of the Interior, 1849 C Street NW, Room 7112, Washington, DC 20240, email at DOI_Privacy@ios.doi.gov or by telephone at (202) 208-1605.

SUPPLEMENTARY INFORMATION:

I. Background

The Department of the Interior (DOI) is creating a new system of records titled INTERIOR/DOI-20, Paleontological Resources Preservation System to implement the Paleontological Resources Preservation Act of 2009 (PRPA), which requires DOI to issue implementing regulations to manage, protect, and preserve paleontological resources on Federal lands under the jurisdiction of DOI using scientific principles and expertise. In compliance with PRPA, DOI's Bureau of Land Management (BLM), Bureau of Reclamation (Reclamation), National Park Service (NPS), and U.S. Fish and Wildlife Service (FWS) are promulgating a joint regulation for the collection of paleontological resources from the lands administered by these bureaus and are responsible for collaborating on the management of these resources. A Notice of Proposed Rulemaking was published in the Federal Register on December 7, 2016 at 81 FR 88173 to provide notice to the public and allow comment on the proposed rule for the management, collection, and curation of paleontological resources from federal lands using scientific principles and expertise, including collection in accordance with permits; curation in an approved repository; and maintenance of confidentiality of specific locality data. A final rule implementing the DOI regulations will appear at 43 CFR part 49, Paleontological Resources Preservation. BLM, Reclamation, NPS and FWS have developed a standardized application for paleontological resources use permits. Paleontological resources are fossils or fossilized remains, traces, or imprints of organisms preserved in or on the Earth's crust that are of paleontological interest and that provide information about the history of life on earth as defined by the PRPA. The INTERIOR/DOI-20, Paleontological Resources Preservation System, system of records will assist the bureaus in managing, tracking, and reporting activities under permits, ensuring permitted activities do not interfere with management objectives for the land or with other authorized public uses; and protecting Federal land and the natural and cultural resources on that land. Sections 6306 and 6307 of the PRPA, which may be found at 16 U.S.C. 470 470aaa-5 and 470aaa-6, respectively, contain criminal and civil penalties for persons who commit prohibited acts or for violations involving paleontological resources under the PRPA and other law enforcement authorities. Any reported or suspected violation of the PRPA will be referred to the appropriate Federal, state, or local law enforcement organization for investigation and appropriate action, and any records of such investigations will not be maintained in this system. DOI records related to criminal investigations for prohibited acts or violations involving paleontological resources under the PRPA will be maintained in other law enforcement systems of records as appropriate and will not be part of this system of records. However, records relating to civil penalties assessed under the PRPA may be maintained in this system of records and other DOI systems of records as necessary to implement the provisions of the PRPA.

II. Privacy Act

The Privacy Act of 1974, as amended, embodies fair information practice principles in a statutory framework governing the means by which Federal agencies collect, maintain, use, and disseminate individuals' personal information. The Privacy Act applies to records about individuals that are maintained in a “system of records.” A “system of records” is a group of any records under the control of an agency for which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The new INTERIOR/DOI-20, Paleontological Resources Preservation System, system of records is published in its entirety below. NPS has a current system of records titled, Special Use Permits—Interior, NPS—1, which is supplemented by this system of records, INTERIOR/DOI-20, Paleontological Resources Preservation System. In accordance with 5 U.S.C. 552a(r), DOI has provided a report of this system of records to the Office of Management and Budget and to Congress.

III. Public Participation

You should be aware that your entire comment including your personal identifying information, such as your address, phone number, email address, or any other personal identifying information in your comment, may be made publicly available at any time. While you may request to withhold your personal identifying information from public review, we cannot guarantee we will be able to do so.

SYSTEM NAME AND NUMBER:

INTERIOR/DOI-20, Paleontological Resources Preservation System.

SECURITY CLASSIFICATION:

Unclassified.

SYSTEM LOCATION:

(1) Office of the Bureau of Land Management National Paleontologist, WO-240, 20 M Street SE, Suite 2134, Washington, DC 20003.

(2) Bureau of Reclamation, Denver Federal Center, 6th & Kipling, Building 67, Denver, CO 80225.

(3) National Park Service, 1849 C Street NW, Mail Stop 2460, Washington, DC 20240.

(4) U.S. Fish & Wildlife Service Headquarters Office, National Wildlife Refuge System, 5275 Leesburg Pike, Falls Church, VA 22041.

(5) Regional and field offices for each bureau or office responsible for issuing and administering paleontological use permits.

SYSTEM MANAGER(S):

(1) Bureau of Land Management System Manager, National Paleontologist, WO-240, 20 M Street SE, Suite 2134, Washington, DC 20003.

(2) Bureau of Reclamation System Manager, Federal Preservation Officer, Denver Federal Center, 6th & Kipling, Building 67, Denver, CO 80225.

(3) National Park Service Special Park Uses Program Manager, 1849 C Street NW, Mail Stop 2460, Washington, DC 20240.

(4) U.S. Fish & Wildlife FWS System Manager, Federal Preservation Officer, National Wildlife Refuge System, 5275 Leesburg Pike, Falls Church, VA 22041.

AUTHORITY FOR MAINTENANCE OF THE SYSTEM:

The Paleontological Resources Preservation Act, 16 U.S.C. 470aaa et seq.

PURPOSE(S) OF THE SYSTEM:

The primary purpose of this system is to implement the PRPA, which requires DOI to issue implementation regulations to manage, protect, and preserve paleontological resources on Federal lands under the jurisdiction of DOI using scientific principles and expertise. The primary uses of the records are to provide BLM, Reclamation, NPS, and FWS with information to approve or deny requests for paleontological resources use permits. Additionally, this system of records will facilitate management, tracking, and reporting activities under permits, thus allowing bureau and office staff to ensure that permitted activities do not interfere with management objectives for the land or with other authorized public uses, thereby protecting Federal land and the natural and cultural resources on that land.

CATEGORIES OF INDIVIDUALS COVERED BY THE SYSTEM:

Individuals covered by this system include members of the public who apply for paleontological resources use permits; permittees and persons working under a permit (support personnel); persons who file a written objection to a proposed notice of violation and assessment of civil penalty and/or request a hearing on a final assessment of civil penalty; DOI employees, contractors, or partners who perform paleontological investigations for scientific research; employees located at a facility that curate Federal collections; and DOI employees who serve as contacts for processing applications and managing permits.

CATEGORIES OF RECORDS IN THE SYSTEM:

This system contains paleontological resources use permit applications; documents associated with the bureau or office decision on a permit; documents associated with the management of the permits, including records of appeals of bureau or office decisions; and other records necessary to manage the permitting process and permit-related bureau or office administrative records. The system also contains information on permit numbers, locations of the paleontological site, locality numbers, types, and purposes of the proposed activity, reports of results of permitted activities, and locations and transfers of collections made under a permit. These records may contain the following information: Names of applicants and support personnel such as other persons who conduct or oversee work under the permit; researchers; applicant institutional affiliation; applicant contact information including work mailing address, work telephone number(s), work fax number, and/or professional email address; field contact information; applicant and support personnel resumes, educational institutions attended and dates of attendance or graduation, applicant institutional affiliation, employment information, machinery or vehicle identifying information as appropriate; proof of insurance as appropriate, and other information necessary to ensure that the applicant can perform the work proposed under the permit. The system may also contain records related to the assessment of civil penalties including written notices of objection to a proposed assessment of civil penalty, written requests for a hearing on a final assessment of civil penalty, final determinations, and any correspondence or record related to the implementation of provisions related to civil penalties under the PRPA.

RECORD SOURCE CATEGORIES:

Records in this system are obtained from individuals covered by the system including applicants for and holders of permits and their support personnel, researchers, DOI employees, DOI contractors, DOI partners, curators and staff-employed at repositories curating Federal collections.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information maintained in this system may be disclosed to authorized entities outside DOI for purposes determined to be relevant and necessary as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, state, territorial, local, tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, state, territorial, local, tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To state, territorial and local governments and tribal organizations to provide information needed in response to court order and/or discovery purposes related to litigation, when the disclosure is compatible with the purpose for which the records were compiled.

I. To an expert, consultant, grantee, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To partners, curators and staff that have physical custody of Federally-owned collections of paleontological resources in furtherance of the care and management of the paleontological collection.

P. To other Federal agencies and non-Federal institutions, partners, scientists, groups, persons, or the general public through the news media, social media applications, and museum exhibits to foster public education and awareness and provide outreach on paleontological resources from bureau-administered lands.

Q. To permitted researchers to share relevant information from the original permit regarding previous scientific investigations on paleontological resources. Information shared with researchers will be limited to name and professional contact information, as well as the nature and location of previous discoveries.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Collection Act of 1996 (31 U.S.C. 3701(a)(3)).

POLICIES AND PRACTICES FOR STORAGE OF RECORDS:

PRPA records are managed securely at DOI and bureau offices. Paper records are contained in file folders stored in locked file cabinets at secured DOI and bureau facilities. Electronic records are maintained as restricted access in shared or removable drives, computers, email, and electronic databases.

POLICIES AND PRACTICES FOR RETRIEVAL OF RECORDS:

Records are retrieved by the individual's name (permittees or researchers), permit number, locality number, location of the paleontological site, and other types of information by key word search.

POLICIES AND PRACTICES FOR RETENTION AND DISPOSAL OF RECORDS:

Records in this system are maintained in accordance with specific bureau records retention schedules that have been approved by NARA. Bureau of Reclamation records are maintained under PRM-10.00 Museum Property, Artwork, and Artifacts—Permanent, ENV-3.00 Cultural Resources—Permanent, and Natural Resource Protection and Management Program—Permanent. Bureau of Land Management records are maintained under BLM 4/14 Grazing and other Land-Use Lease and Permit Files—Temporary, 30 years. Fish and Wildlife Service records are maintained under PERM-811, Archaeological Permit Files—Temporary, 3 years. The National Park Service records are maintained under NPS Records Schedule, Resource Management and Lands (Item 1D) (N1-79-08-1)—Temporary, Destroy/delete 3 years after closure.

A new Department Records Schedule (DRS)—2 Mission Bucket Schedule for mission-related records has been submitted to NARA and is pending approval. Once NARA approves the DRS the records related to this system will be maintained in accordance with the following DRS: 2.1.1.03, Long-Term Mission—Natural & Cultural Resources, Native American Graves Protection and Repatriation Act (NAGPRA) & Paleontology; and DRS 2.1.1.04, Historically-Significant Natural & Cultural Resources—NAGPRA & Paleontology. Records under DRS 2.1.1.03 have a temporary disposition authority and are maintained for approximately 25 years after cut-off. Approved destruction methods for temporary records that have met their retention period include shredding or pulping paper records, and erasing or degaussing electronic records in accordance with 384 Departmental Manual 1 and NARA guidelines. Records maintained under DRS 2.1.1.04 have a permanent retention schedule. Permanent records are maintained either at the office of record or transferred to the Federal Records Center or NARA when volume warrants.

ADMINISTRATIVE, TECHNICAL, AND PHYSICAL SAFEGUARDS:

The records contained in this system are safeguarded in accordance with 43 CFR 2.226 and other applicable security rules and policies. Records are accessible only by authorized DOI employees, and other Federal Government agencies and contractors who have contractual agreements with BLM, Reclamation, NPS, and FWS to conduct activities related to paleontology. During normal hours of operation, paper records are secured in locked file cabinets under the control of authorized personnel. Computers and servers on which electronic records are stored are located in secured DOI and/or contractor facilities with physical, technical, and administrative levels of security such as access codes, security codes, and security guards, to prevent unauthorized access to the DOI network and information assets. Access to DOI networks and data requires a valid username and password and is limited to DOI personnel and/or contractors who have a need to know the information for the performance of their official duties. Access to contractor's networks and data requires restricted access limited to authorized personnel.

Computerized records systems follow the National Institute of Standards and Technology privacy and security standards as developed to comply with the Privacy Act of 1974 as amended, 5 U.S.C. 552a; the Paperwork Reduction Act of 1995, Public Law 104-13; Federal Information Security Modernization Act of 2014, Public Law 113-283, as codified at 44 U.S.C. 3551 et seq.; and the Federal Information Processing Standard 199, Standards for Security Categorization of Federal Information and Information Systems. Security controls include user identification, passwords, database permissions, encryption, firewalls, audit logs, network system security monitoring, and software controls. System administrators and authorized personnel are trained and required to follow established internal security protocols and must complete all security, privacy, and records management training and sign the DOI Rules of Behavior.

RECORD ACCESS PROCEDURES:

An individual requesting records on himself or herself should send a signed, written inquiry to the appropriate System Manager identified in this notice. The request must include the specific bureau or office that maintains the records to facilitate location of the applicable records. The request envelope and letter should both be clearly marked “PRIVACY ACT REQUEST FOR ACCESS.” A request for access must meet the requirements of 43 CFR 2.238.

CONTESTING RECORDS PROCEDURES:

An individual requesting corrections or the removal of material from his or her records should send a signed, written request to the appropriate System Manager identified in this notice. The request must include the specific bureau or office that maintains the records to facilitate location of the applicable records. A request for corrections or removal must meet the requirements of 43 CFR 2.246.

NOTIFICATION PROCEDURES:

An individual requesting notification of the existence of records on himself or herself should send a signed, written inquiry to the appropriate System Manager identified in this notice. The request must include the specific bureau or office that maintains the records to facilitate location of the applicable records. The request envelope and letter should both be clearly marked “PRIVACY ACT INQUIRY.” A request for notification must meet the requirements of 43 CFR 2.235.

EXEMPTIONS PROMULGATED FOR THE SYSTEM:

None.

HISTORY:

None.

Teri Barnett,
Departmental Privacy Officer, Department of the Interior.

[FR Doc. 2019-21378 Filed 10-1-19; 8:45 am]

BILLING CODE 4312-52-P